DEPARTMENT OF COMMERCE

National Oceanic and Atmospheric Administration

RIN 0648-XX24

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a meeting of the Ecosystem Plan Development Team (EPDT) which is open to the public.

DATES: The EPDT will meet Wednesday, July 21, 2010 beginning at 10 a.m. and concluding at 5 p.m. or when business for the day is completed. The EPDT meeting will include a working lunch session.

ADDRESSES: The EPDT meeting will be held at the Pacific Council Office, Large Conference Room, 7700 NE Ambassador Place, Suite 101, Portland, OR 97220; telephone: (503) 820-2280.

FOR FURTHER INFORMATION CONTACT: Mike Burner, Staff Officer; telephone: (503) 820-2280.

SUPPLEMENTARY INFORMATION: Please note, this is not a public hearing; it is a work session for the primary purpose of reviewing comments of the Ecosystem Advisory Subpanel (EAS) and drafting a report to the Pacific Council on initial stages of developing an Ecosystem Fishery Management Plan (EFMP). The EPDT has taken the lead in preparing a Pacific Council-requested report on developing an EFMP that includes a draft statement of purpose and need, a draft list of possible initial goals and objectives, and a draft range of options on the geographic range, managed species, and regulatory scope of the EFMP. The EAS met on May 4, 2010 to review a draft of the report and to provide comments to the EPDT. The final report is scheduled to be presented to the Council at its September 2010 meeting in Boise, ID.

Although non-emergency issues not contained in the meeting agenda may come before the EPDT for discussion, those issues may not be the subject of formal EPDT action during this meeting. EPDT action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: June 29, 2010.
Tracey L. Thompson,
Acting Director, Office of Sustainable Fisheries, National Marine Fisheries Service.

[FR Doc. 2010-16160 Filed 7-1-10; 8:45 am]

BILLING CODE 3510-22-S